SURFACE TRANSPORTATION BOARD

[Docket No. FD 36788]

Front Range Railroad LLC—Operation Exemption—Line in Adams County, Colo.

Front Range Railroad LLC (FRRL), a noncarrier, has filed a verified notice of exemption pursuant to 49 CFR 1150.31 to operate over approximately 0.51 miles (approximately 2,700 feet) of what is currently private industry railroad track that is part of a logistics complex in Bennett, Adams County, Colo. (the Line). Rail Land Company, LLC (RLCL), an unaffiliated noncarrier, owns the Line. The Line connects to a rail line of the Union Pacific Railroad Company (UP) at UP milepost 613.81 and proceeds approximately eastward and then northward 0.51 miles to the main switch to an RLCL-owned yard facility.

According to the verified notice, FRRL and RLCL have entered into an operation agreement under which FRRL will operate and provide common carrier rail service to customers on the Line and connecting ancillary (yard) trackage.

This transaction is related to a concurrently filed verified notice of exemption in Patriot Rail Company LLC—Continuance in Control Exemption—Front Range Railroad, Docket No. FD 36789, in which Patriot Rail Company LLC, SteelRiver Transport Ventures LLC, Global Diversified Infrastructure Fund (North America) LP, First State Infrastructure Managers (International) Limited, and Mitsubishi UFJ Financial Group, Inc., seek to continue in control of FRRL upon FRRL's becoming a Class III rail carrier.

FRRL certifies that its annual projected revenues as a result of the transaction will not exceed those that would qualify it as a Class III carrier and will not exceed $5 million. FRRL also states that the operation agreement does not have any interchange commitments.

FRRL intends to consummate the transaction on or shortly after the effective date of this notice. The earliest this transaction may be consummated is July 18, 2024, the effective date of the exemption.

If the verified notice contains false or misleading information, the exemption is void ab initio. Petitions to revoke the exemption under 49 U.S.C. 10502(d) may be filed at any time. The filing of a petition to revoke will not automatically stay the effectiveness of the exemption. Petitions for stay must be filed no later than July 11, 2024 (at least seven days before the exemption becomes effective).

All pleadings, referring to Docket No. FD 36788, must be filed with the Surface Transportation Board either via e-filing on the Board's website or in writing addressed to 395 E Street SW, Washington, DC 20423-0001. In addition, a copy of each pleading must be served on FRRL's representative, Robert A. Wimbish, Fletcher & Sippel LLC, 29 North Wacker Drive, Suite 800, Chicago, IL 60606-3208.

According to FRRL, this action is categorically excluded from environmental review under 49 CFR 1105.6(c) and from historic preservation reporting requirements under 49 CFR 1105.8(b).

Board decisions and notices are available at www.stb.gov.

Decided: June 28, 2024.
By the Board, Scott M. Zimmerman, Acting Director, Office of Proceedings.
Eden Besera,
Clearance Clerk.

[FR Doc. 2024-14639 Filed 7-2-24; 8:45 am]

BILLING CODE 4915-01-P